DEPARTMENT OF TRANSPORTATION

Federal Transit Administration

Limitation on Claims Against Proposed Public Transportation Projects—TEXRail Extension Project and Richmond Highway Bus Rapid Transit (BRT) Project

AGENCY: Federal Transit Administration (FTA), Department of Transportation (DOT).

ACTION: Notice.

SUMMARY: This notice announces final environmental actions taken by the Federal Transit Administration (FTA) regarding two projects: the TEXRail Extension Project in Tarrant County, Texas, and the Richmond Highway Bus Rapid Transit (BRT) Project in Fairfax County, Virginia. The purpose of this notice is to announce publicly the environmental decisions by FTA on the subject projects and to activate the limitation on any claims that may challenge these final environmental actions.

DATES: A claim seeking judicial review of FTA actions announced herein for the listed public transportation projects will be barred unless the claim is filed on or before July 5, 2022.

FOR FURTHER INFORMATION CONTACT: Kathryn Loster, Assistant Chief Counsel, Office of Chief Counsel, (312) 353-3869 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the projects to comply with the National Environmental Policy Act (NEPA) and in other documents in the FTA environmental project files for the projects. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA (42 U.S.C. 4321-4375), Section 4(f) requirements (23 U.S.C. 138, 49 U.S.C. 303), Section 106 of the National Historic Preservation Act (54 U.S.C. 306108), Endangered Species Act (16 U.S.C. 1531), Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The projects and actions that are the subject of this notice follow:

1. Project name and location: TEXRail Extension Project, City of Fort Worth, Tarrant County, Texas. Project Sponsor: Trinity Metro, City of Fort Worth, Texas. Project description: The Project extends TEXRail commuter rail service approximately 2.1 miles south from the Fort Worth Texas & Pacific (T&P) Station to the Near Southside Station in the Fort Worth Medical District. The new station will be located behind Baylor Scott & White All Saints Medical Center, adjacent to the Mistletoe Heights neighborhood. The Project will utilize the Union Pacific Railroad right-of-way (ROW) traveling west from the Fort Worth T&P Station to a connection with the Fort Worth & Western Railroad (FWWR), where it then turns south to transition onto its own alignment running adjacent to the FWWR freight track, generally in the FWWR ROW. Final agency action: Section 106 Amended Memorandum of Agreement, dated December 17, 2021; TEXRail Extension Project Finding of No Significant Impact (FONSI), dated December 17, 2021. Supporting documentation: TEXRail Extension Project Environmental Assessment (EA), dated October 31, 2021. The EA, FONSI and associated documents can be viewed and downloaded from: https://ridetrinitymetro.org/texrail-extension/.

2. Project name and location: Richmond Highway Bus Rapid Transit (BRT) Project, Fairfax County, Virginia. Project Sponsor: Fairfax County Department of Transportation, Fairfax, Virginia. Project description: The Richmond Highway BRT Project is a 7.4-mile fixed guideway BRT project on the Richmond Highway corridor from the Huntington Metrorail Station to Ft. Belvoir. The Project includes the construction of new BRT-dedicated median lanes, nine BRT stations, roadway widening, streetscape improvements, and construction of sidewalks and bicycle facilities along the Richmond Highway (or Route 1) predominantly within the existing transportation right-of-way in Fairfax County, VA. Final agency actions: Section 4(f) de minimis impact determination, dated January 7, 2022; Section 106 No Adverse Effect determination, dated January 15, 2021 with State Historic Preservation Officer (SHPO) concurrence on February 17, 2021; and Determination of the applicability of a categorical exclusion pursuant to 23 CFR 771.118(d) dated January 7, 2022. Supporting documentation: Documented Categorical Exclusion (CE) checklist and supporting materials dated January 4, 2022. The CE checklist and associated documents can be viewed and downloaded from: https://www.fairfaxcounty.gov/transportation/richmond-hwy-brt.

Authority: 23 U.S.C. 139(l)(1).

Mark A. Ferroni,
Deputy Associate Administrator for Planning and Environment.

[FR Doc. 2022-02175 Filed 2-2-22; 8:45 am]

BILLING CODE 4910-57-P